DEPARTMENT OF STATE

48 CFR Parts 601, 606, 608, 615, 616, 623, 627, 633, 651, and 652

[Public Notice: 9482]

RIN 1400-AD92

Department of State Acquisition Regulation; Technical Amendments

AGENCY: Department of State.

ACTION: Final rule; technical amendments.

SUMMARY: The Department of State is amending the Department of State Acquisition Regulation (DOSAR) to make non-substantive corrections and editorial changes.

DATES: This rule is effective April 27, 2016.

ADDRESSES: You may submit comments using the following method:

• Email: KosarCM@state.gov. You must include the RIN in the subject line of your message.

FOR FURTHER INFORMATION CONTACT: Ms. Colleen Kosar, Policy Division, Office of the Procurement Executive, A/OPE, 2201 C Street NW., Suite 1060, State Annex Number 15, Washington, DC 20520. Telephone: 703-516-1685. Email: KosarCM@state.gov.

SUPPLEMENTARY INFORMATION: This document updates Parts 601, 606, 608, 615, 616, 623, 627, 633, 651 and 652 to correct formatting, grammatical, numbering and wording errors/oversights as follows—

1. Corrects a cross reference in DOSAR 601.602-1(b);

2. Corrects a grammatical error in DOSAR 606.304(a)(2);

3. Corrects the title of DOSAR 606.5;

4. Corrects terminology in DOSAR 606.501(b) to align with a recent FAR change;

5. Adds a delegation of authority in DOSAR 608.405-3(a)(3)(ii);

6. Removes “DOSAR” from DOSAR 615.205-70 to comply with the referencing convention cited at DOSAR 601.303(c);

7. Corrects the title of DOSAR 616.103;

8. Adds a delegation of authority in DOSAR 616.504(c)(1)(ii)(D)(1)

9. Adds a paragraph identifier to the text of DOSAR 623.506;

10. Adds a clarification to DOSAR 627.304-1;

11. Adds a missing section heading for DOSAR 633.214;

12. Retitles DOSAR 633. 214-70;

13. Redesignates 651.701 as 651.7001;

14. Corrects the capitalization of “subpart” in DOSAR 652.100-70(a) and (b) to comply with the referencing convention cited at DOSAR 601.303(c);

15. Corrects the title of DOSAR subpart 652.2; and

16. Corrects a reference in the introductory text of DOSAR 652.232-72.

Regulatory Findings

Administrative Procedure Act

The Department is publishing this rule as a direct final rule, as an interpretative rule, general statement of policy, or rule of agency organization, procedure, or practice, in accordance with 5 U.S.C. 553(b). The effective date of this rulemaking is the date of publication, in accordance with 5 U.S.C. 553(d). The Department finds good cause for this rule to be effective immediately. Since the amendments in this rule are merely technical in nature or address the internal operating procedures of the agency, public comment is unnecessary.

Regulatory Flexibility, Unfunded Mandates, SBREFA

The Department of State, in accordance with the Regulatory Flexibility Act (5 U.S.C. 605(b)), has reviewed this regulation and, by approving it, certifies that this rule will not have a significant economic impact on a substantial number of small entities. This determination was based on the fact that the amendments in this rule will not have any cost or administrative impact on offerors or contractors. Thus, it was concluded that the rule will not have a significant economic impact on a substantial number of small entities. This rule will not result in the expenditure by State, local, and tribal governments, in the aggregate, or by the private sector, of $100 million or more in any year and it will not significantly or uniquely affect small governments. Therefore, no actions were deemed necessary under the provisions of the Unfunded Mandates Act of 1995. Finally, this rule is not a major rule as defined by the Small Business Regulatory Enforcement Act of 1996 (5 U.S.C. 801 et seq.).

Executive Orders 12866 and 13563

The Department of State does not consider this rule to be an “economically significant” regulatory action under E. O. 12866. The Department has reviewed the regulation to ensure its consistency with the regulatory philosophy and principles set forth in Executive Orders 12866 and 13563 and finds that the benefits of updating this rule outweigh any costs, which the Department assesses to be minimal.

Executive Order 13132 and 13175

This rule will not have substantial direct effects on the States, on the relationship between the national government and the States, or on the distribution of power and responsibilities among the various levels of government. The Department has determined that this rulemaking will not have tribal implications, will not impose substantial direct compliance costs on Indian tribal governments, and will not pre-empt tribal law.

Paperwork Reduction Act

The rule imposes no new or revised information collections under the Paperwork Reduction Act of 1980 (44 U.S.C. Chapter 35).

List of Subjects in 48 CFR Parts 601, 606, 608, 615, 616, 623, 627, 633, 651 and 652

Administrative practice and procedure, Government procurement.

For the reasons stated in the preamble, the Department of State amends 48 CFR chapter 6 as follows:

1. The authority citation for 48 CFR parts 601, 606, 608, 615, 616, 623, 627, 633, 651 and 652 continues to read as follows:

Authority: 22 U.S.C. 2651a, 40 U.S.C. 121(c) and 48 CFR chapter 1.

PART 601—DEPARTMENT OF STATE ACQUISITION REGULATION SYSTEM

601.602-1 [Amended]

2. In section 601.602-1, paragraph (b), remove “601.603-70” and add in its place “601.601-70”.

PART 606—COMPETITION REQUIREMENTS

606.304 [Amended]

3. In section 606.304, in paragraph (a)(2), remove “a advocate for competition” and add in its place “an advocate for competition”.

Subpart 606.5—Advocates for Competition

4. Revise the heading for subpart 606.5 to read as set forth above.

5. In section 606.501, in the second sentence of paragraph (b), remove “competition advocate” and add in its place “advocate for competition”.

PART 608—REQUIRED SOURCES OF SUPPLIES AND SERVICES

6. Add subpart 608.4 to read as follows:

Subpart 608.4—Federal Supply Schedules
608.405 Ordering procedures for Federal Supply Schedules.
608.405-3 Blanket Purchase Agreements.

Subpart 608.4—Federal Supply Schedules

608.405 Ordering procedures for Federal Supply Schedules.

608.405-3 Blanket Purchase Agreements.

(a) Establishment.

(3)(ii) The Procurement Executive is the head of the agency for the purposes of FAR 8.405-3(a)(3)(ii).

PART 615—CONTRACTING BY NEGOTIATION

615.205-70 [Amended]

7. In section 615.205-70, remove “DOSAR”.

PART 616—TYPES OF CONTRACTS

8. Revise the heading for section 616.103 to read as follows:

616.103 Negotiating contract type.

* * * * *

9. Add section 616.504 to read as follows:

616.504 Indefinite-quantity contracts.

(c) Multiple award preference—(1) Planning the acquisition.

(ii)(D)(1) The Procurement Executive is the head of the agency for the purposes of FAR 16.504(c)(1)(ii)(D)(1).

PART 623—ENVIRONMENT, ENERGY AND WATER EFFICIENCY, RENEWABLE ENERGY TECHNOLOGIES, OCCUPATIONAL SAFETY, AND DRUG-FREE WORKPLACE TYPES OF CONTRACTS

623.506 [Amended]

10. The text of section 623.506 is designated as paragraph (e).

PART 627—PATENTS, DATA, AND COPYRIGHTS

627.304-1 [Amended]

11. In the third sentence of section 627.304-1, add “proposed to be” between “Determinations” and “issued”.

PART 633—PROTESTS, DISPUTES, AND APPEALS

Subpart 633.214—Alternative dispute resolution (ADR)

12. Add a subpaart 633.214 heading to read as set forth above.

13. Revise the heading for section 633.214-70 to read as follows:

633.214-70 DOS ADR program.

* * * * *

PART 651—USE OF GOVERNMENT SOURCES BY CONTRACTORS

651.701 [Redesignated as 651.7001]

14. Section 651.701 is redesignated as section 651.7001.

PART 652—SOLICITATION PROVISIONS AND CONTRACT CLAUSES

652.100-70 [Amended]

15. In section 652.100-70, revise “Subpart” to read “subpart” in paragraphs (a) and (b).

Subpart 652.2—Text of Provisions and Clauses

16. Revise the subpart 652.2 heading to read as set forth above.

652.232-72 [Amended]

17. In the introductory text of section 652.232-72, remove “632.705-70” and add in its place “632.706-70”.

Corey M. Rindner,
Procurement Executive, Department of State.

[FR Doc. 2016-09570 Filed 4-26-16; 8:45 am]

BILLING CODE 4710-24-P